DEPARTMENT OF ENERGY

Federal Energy Regulatory Commission

Notice of Commissioner and Staff Attendance at North American Electric Reliability Corporation Meetings

The Federal Energy Regulatory Commission hereby gives notice that members of the Commission and/or Commission staff may attend the following meetings:

North American Electric Reliability Corporation

Member Representatives Committee and Board of Trustees Meetings

Board of Trustees Corporate Governance and Human Resources Committee, Finance and Audit Committee, Compliance Committee, and Technology and Security Committee Meetings

Westdrift Manhattan Beach, 1400 Parkview Avenue, Manhattan Beach, CA 90266

February 5 (8:00 a.m.-5:00 p.m. Pacific time) and February 6 (8:30 a.m.-12:00 p.m. Pacific time), 2020

Further information regarding these meetings may be found at: http://www.nerc.com/Pages/Calendar.aspx.

The discussions at the meetings, which are open to the public, may address matters at issue in the following Commission proceedings:

Docket No. RR20-2, North American Electric Reliability Corporation

For further information, please contact Jonathan First, 202-502-8529, or jonathan.first@ferc.gov.

Dated: January 23, 2020.
Kimberly D. Bose,
Secretary.

[FR Doc. 2020-01599 Filed 1-29-20; 8:45 am]

BILLING CODE 6717-01-P